DEPARTMENT OF HEALTH AND HUMAN SERVICES

National Institutes of Health

National Cancer Institute; Amended Notice of Meeting

Notice is hereby given of a change in the meeting of the National Cancer Institute Board of Scientific Advisors, March 21, 2017, 08:30 a.m. to 05:00 p.m., National Institutes of Health, 31 Center Drive, Building 31, Conference Room 10, Bethesda, MD, 20892 which was published in the Federal Register on March 3, 2017, 82 FR 12459.

The meeting notice is amended to change the meeting start and end time to 9:00 a.m. to 4:30 p.m. The date and location remain the same. The meeting is open to the public.

Dated: March 14, 2017.
Melanie J. Pantoja,
Program Analyst, Office of Federal Advisory Committee Policy.

[FR Doc. 2017-05391 Filed 3-16-17; 8:45 am]

BILLING CODE 4140-01-P